DEPARTMENT OF COMMERCE

National Oceanic and Atmospheric Administration

[I.D. 081902B]

Draft Code of Conduct for Responsible Aquaculture in the U. S. Exclusive Economic Zone

AGENCY: National Marine Fisheries Service (NMFS), National Oceanic and Atmospheric Administration (NOAA), Commerce.

ACTION: Reopening of comment period; schedule change.

SUMMARY: The National Marine Fisheries Service (NMFS) announces the reopening of the public comment period on a draft Code of Conduct for Responsible Aquaculture in the U. S. Exclusive Economic Zone (Code of Conduct). NMFS also announces a schedule change for the publication of a final Code of Conduct.

DATES: NMFS will accept written comments on the draft Code of Conduct at the appropriate address or fax number until 5 p.m. on October 31, 2002.

ADDRESSES: The draft Code of Conduct and the Federal Register Notice dated August 23, 2002 announcing its availability for public comment (67 FR 54644) are available on the NMFS Web site: www.nmfs.noaa.gov/aquaculture.htm. These documents will also be provided in hard copy upon request (see FOR FURTHER INFORMATION CONTACT). Comments on the Code of Conduct may be sent to Colin Nash, NMFS/WASC, P.O. Box 130, Manchester, WA 98353 or by fax to 206-842-8364. Comments may also be hand-delivered during business hours to: NMFS Manchester Research Station, 7305 Beach Drive East, Port Orchard, WA 98366-8204. Comments will not be accepted via telephone, e-mail, or internet.

FOR FURTHER INFORMATION CONTACT: Susan Bunsick, 301-713-2334 Extension 102, Office of Sustainable Fisheries, 1315 East-West Highway, Silver Spring, MD 20910. You may also fax your request to 301-713-0596 or send an e-mail to: Susan.Bunsick@noaa.gov. Comments on the Code of Conduct will not be accepted at these contact points.

SUPPLEMENTARY INFORMATION:

Background

The draft Code of Conduct was released for public comment via Federal Register notice dated August 23, 2002 (67 FR 54644), with a 30-day comment period. NMFS is extending the comment period in response to numerous requests from the public indicating that a 30-day comment period does not allow sufficient time for stakeholders to provide their input into the preparation of the final document. The previous Federal Register notice provided a tentative time frame for the production of a Code of Conduct. To accommodate the longer comment period, the time frame for production of a final Code of Conduct has been revised as provided here.

Time Frame

August 23, 2002: Release draft Code of Conduct for public comment via posting of the document on the NMFS Web site (www.nmfs.noaa.gov/aquaculture.htm). The document will also be provided in hard copy upon request (see FOR FURTHER INFORMATION CONTACT).

October 31, 2002: Public comment period on draft Code of Conduct ends.December 2002: Release final Code of Conduct via a Federal Register notice of availability and posting on the NMFS Web site (www.nmfs.noaa.gov/aquaculture.htm). The document will also be provided in hard copy upon request (see FOR FURTHER INFORMATION CONTACT).

Dated: September 27, 2002.
Virginia M. Fay,
Acting Director, Office of Sustainable Fisheries, National Marine Fisheries Service.

[FR Doc. 02-25173 Filed 10-2-02; 8:45 am]

BILLING CODE 3510-22-S